DEPARTMENT OF AGRICULTURE

Foreign Agricultural Service

Trade Adjustment Assistance for Farmers

AGENCY: Foreign Agricultural Service, USDA.

ACTION: Notice.

The Administrator, Foreign Agricultural Service (FAS), certified two petitions (petition nos. 2011002 and 2011022) for trade adjustment assistance (TAA) for shrimp filed under the fiscal year (FY) 2011 program on behalf of shrimp producers in Alabama, Alaska, Florida, Georgia, Louisiana, Mississippi, North Carolina, South Carolina, and Texas. The petitions were accepted for review by USDA on July 21, 2010. For programmatic purposes, this Federal Register notice combines both FY 2011 shrimp petitions under petition number 2011002.

SUPPLEMENTARY INFORMATION: All petitions were analyzed by USDA's Economic Research Service and reviewed by the TAA for Farmers Program Review Committee, comprised of representatives from USDA's Office of the Chief Economist, Farm Service Agency, Agricultural Marketing Service, and FAS. After a review, the Administrator determined that increased imports of shrimp during January-December 2008 contributed importantly to a greater than 15-percent decline in the quantity of production in 2008, compared to the previous 3-year average. This conforms to the eligibility requirements stipulated in Subtitle C of Title I of the Trade Act of 2002 (Pub. L. 107-210).

Because both petitions met the program's eligibility criteria, the Administrator was able to certify them, making shrimp producers in Alabama, Alaska, Florida, Georgia, Louisiana, Mississippi, North Carolina, South Carolina, and Texas eligible for trade adjustment assistance in FY 2011.

Eligible individual shrimp producers in these states, who did not qualify for benefits under the FY 2010 program, may apply for technical training and cash benefits by completing and submitting a written application to their local Farm Service Agency county office by the application deadline of December 23, 2010. After submitting a completed application, producers may receive technical assistance at no cost and cash benefits, if the applicable program eligibility requirements are satisfied. Applicants must complete the technical assistance training under the program in order to be eligible for cash benefits.

Producers Certified As Eligible For TAA For Farmers Contact: Your local USDA Farm Service Agency county office.

FOR FURTHER GENERAL INFORMATION CONTACT: Trade Adjustment Assistance for Farmers Program Staff, Office of Trade Programs, FAS, USDA, at (202) 720-0638 or (202) 690-0633, or by e-mail at: http://tradeadjustment@fas.usda.gov, or visit the TAA for Farmers' Web site at: http://www.taaforfarmers.org or the FAS Web site at: http://www.fas.usda.gov/itp/taa.

Dated: September 24, 2010.
Suzanne Hale
Administrator, Foreign Agricultural Service.

[FR Doc. 2010-24818 Filed 10-1-10; 8:45 am]

BILLING CODE 3410-10-P